DEPARTMENT OF LABOR

Office of Workers' Compensation Programs

20 CFR Chapter VI

RIN 1290-AA24

Technical Amendment

AGENCY: Office of Workers' Compensation Programs, Labor.

ACTION: Final rule.

SUMMARY: The Department of Labor is revising its regulations to reflect the Secretary's delegation of authority to administer the Longshore and Harbor Workers Compensation Act and its extensions (LHWCA) and the Black Lung Benefits Act (BLBA) to the Director, Office of Workers' Compensation Programs (OWCP). This authority previously resided with the Employment Standards Administration (ESA), which has now been dissolved.

DATES: Effective October 15, 2010.

FOR FURTHER INFORMATION CONTACT: Shelby Hallmark, Director, Office of Workers' Compensation Programs, U.S. Department of Labor, Room S-3524, 200 Constitution Avenue, NW., Washington, DC 20210. Telephone: (202) 693-0031 (this is not a toll-free number). TTY/TDD callers may dial toll free 1-800-877-8339 for further information.

SUPPLEMENTARY INFORMATION:

I. Background of This Rulemaking

Prior to November 8, 2009, the Secretary had delegated her statutory authority to administer the LHWCA and the BLBA to the Assistant Secretary for the Employment Standards Administration. Secretary's Order 13-71, 36 FR 8755 (May 12, 1971). The Assistant Secretary, in turn, delegated authority to administer both programs to OWCP, one of ESA's sub-agencies.

On November 8, 2009, the Secretary dissolved ESA into its constituent components. See Secretary's Order 10-2009, 74 FR 58834 (Nov. 13, 2009). The Secretary then delegated her authority to administer the LHWCA and the BLBA directly to the Director, OWCP. Id. The changes made by this rule simply reflect this administrative reorganization and do not change any substantive rule governing administration of these statutes.

II. Summary of the Rule

A. Revision of 20 CFR Chapter VI Heading

This rule revises the heading of 20 CFR chapter VI, which contains regulations governing the administration of the LHWCA and the BLBA. (A full list of citations for the statutes addressed by 20 CFR chapter VI is set forth at 20 CFR 701.101.) The rule replaces the title “Employment Standards Administration, Department of Labor” with “Office of Workers' Compensation Programs, Department of Labor.” The heading change reflects the abolition of ESA and the Secretary's current delegation of administrative authority over the LHWCA and the BLBA to OWCP.

B. Section 701.201 Office of Workers' Compensation Programs

This rule has been revised to remove references and cross-references to the now-dissolved ESA and to clarify the Secretary's delegation of authority for the administration of the LHWCA and the BLBA to OWCP.

III. Statutory Authority

Section 39(a) of the LHWCA (33 U.S.C. 939(a)) and sections 411(b) and 426(a) of the BLBA (30 U.S.C. 921(b) and 936(a)); 5 U.S.C. 301 (Departmental Regulations); 29 U.S.C. 551 et seq. (Establishment of Department; Secretary; Seal); and Reorganization Plan No. 6 1950 (5 U.S.C. App. 1 Reorg. Plan 6 1950) authorize the Secretary of Labor to prescribe rules and regulations necessary for the administration and enforcement of the LHWCA and the BLBA.

IV. Rulemaking Analyses

Administrative Procedure Act

Section 553 of the Administrative Procedure Act (APA) exempts “rules of agency organization, procedure, or practice” from proposed rulemaking (i.e., notice-and-comment rulemaking). 5 U.S.C. 553(b)(3)(A). Rules are also exempt when an agency finds “good cause” that notice and comment rulemaking procedures would be “impracticable, unnecessary, or contrary to the public interest.” 5 U.S.C. 553(b)(3)(B). An agency may similarly make the rule effective upon publication when it determines that delaying the effective date of the rule, as normally required by 5 U.S.C. 553, is unnecessary and good cause exists to make the rule effective immediately. 5 U.S.C. 553(d)(3).

Here, the Department has determined that this rulemaking meets the notice-and-comment exemption requirements in 5 U.S.C. 553(b)(3)(A) and (b)(3)(B). The Department's revisions to the 20 CFR chapter VI heading and § 701.201 pertain solely to the delegation of administrative authority within the Department, and do not alter any substantive standard. The Department does not believe public comment is necessary for these minor revisions. For these reasons, the Department also finds that good cause exists under 5 U.S.C. 553(d)(3) to make the revisions effective immediately upon publication in the Federal Register.

Regulatory Flexibility Act

Because the Department has concluded that this action is not subject to the Administrative Procedure Act's proposed rulemaking requirements, it is not subject to the regulatory flexibility provisions of the Regulatory Flexibility Act (5 U.S.C. 601 et seq.).

Unfunded Mandates Reform Act

This action does not significantly or uniquely affect small governments or impose a significant intergovernmental mandate (2 U.S.C. 1531 et seq.).

Paperwork Reduction Act

This action does not impose an information collection burden under the provisions of the Paperwork Reduction Act (44 U.S.C. 3501 et seq.).

Executive Order 12866

This action is not a “significant regulatory action” and is therefore not subject to review by the Office of Management and Budget under Executive Order 12866 (58 FR 51735 (Oct. 4, 1993)).

Executive Order 13132 (Federalism)

The Department has reviewed this proposed rule in accordance with Executive Order 13132 regarding federalism, and has determined that it does not have “federalism implications.” The rule will not “have substantial direct effects on the States, on the relationship between the national government and the States, or on the distribution of power and responsibilities among the various levels of government.”

Executive Order 12988 (Civil Justice Reform)

This rule meets the applicable standards in sections 3(a) and 3(b)(2) of Executive Order 12988, Civil Justice Reform, to minimize litigation, eliminate ambiguity, and reduce burden.

List of Subjects in 20 CFR Part 701

Longshore and harbor workers, Organization and functions (government agencies), Workers' compensation.

Based on the authority and reasons set forth in the preamble, 20 CFR chapter VI is amended to read as follows:

CHAPTER VI—OFFICE OF WORKERS' COMPENSATION PROGRAMS, DEPARTMENT OF LABOR

1. Revise the chapter heading of 20 CFR chapter VI to read as shown above.

PART 701—GENERAL; ADMINISTERING AGENCY; DEFINITIONS AND USE OF TERMS

2. The authority citation for part 701 is revised to read as follows:

Authority: 5 U.S.C. 301 and 8171 et seq.; 33 U.S.C. 939; 36 D.C. Code 501 et seq.; 42 U.S.C. 1651 et seq.; 43 U.S.C. 1331; Reorganization Plan No. 6 of 1950, 15 FR 3174, 3 CFR, 1949-1953 Comp., p. 1004, 64 Stat. 1263; Secretary's Order 10-2009, 74 FR 58834 (Nov. 13, 2009).

3. Revise § 701.201 to read as follows:

§ 701.201 Office of Workers' Compensation Programs.

The Office of Workers' Compensation Programs is responsible for administering the LHWCA and its extensions.

Signed at Washington, DC, this 5th day of October 2010.
Seth D. Harris,
Deputy Secretary.

[FR Doc. 2010-25521 Filed 10-14-10; 8:45 am]

BILLING CODE 4510-23-P